DEPARTMENT OF HEALTH AND HUMAN SERVICES

Indian Health Service

Office of Tribal Self-Governance Program; Planning Cooperative Agreement; Correction

AGENCY: Indian Health Service, HHS.

ACTION: Notice; correction.

SUMMARY: The Indian Health Service published a document in the Federal Register on July 29, 2014, for the FY 2014 Office of Tribal Self-Governance Program, Planning Cooperative Agreement Announcement. The notice contained an incorrect date.

FOR FURTHER INFORMATION CONTACT: Mr. Jeremy Marshall, Policy Analyst, Office of Tribal Self-Governance, Indian Health Service, 801 Thompson Avenue, Suite 240, Rockville, MD 20852, Telephone (301) 443-7821. (This is not a toll-free number.)

Correction

In the Federal Register of July 29, 2014, in FR Doc. 2014-17801, on page 44043, in the first column, under the heading Key Dates, the correct date should read as follows:

Signed Tribal Resolutions Due Date: September 8, 2014.

Dated: August 13, 2014.
Yvette Roubideaux,
Acting Director, Indian Health Service.

[FR Doc. 2014-19699 Filed 8-19-14; 8:45 am]

BILLING CODE 4165-16-P